DEPARTMENT OF TRANSPORTATION

National Highway Traffic Safety Administration

[Docket No. NHTSA-2023-0065]

Agency Information Collection Activities; Submission to the Office of Management and Budget for Review and Approval; Request for Comment; Crash Injury Research and Engineering Network Data Collection

AGENCY: National Highway Traffic Safety Administration (NHTSA), Department of Transportation (DOT).

ACTION: Notice and request for comments on a request for approval of an information collection.

SUMMARY: In compliance with the Paperwork Reduction Act of 1995 (PRA), this notice announces that the Information Collection Request (ICR) summarized below will be submitted to the Office of Management and Budget (OMB) for review and approval. The ICR describes the nature of the information collection and its expected burden. This document describes an information collection request for which NHTSA intends to seek a new OMB approval for NHTSA's Crash Injury Research and Engineering Network (CIREN) investigation-based crash data study. A Federal Register Notice with a 60-day comment period soliciting comments on the following information collection was published. Two comments were received, and burden estimates were adjusted based on the input.

DATES: Comments must be submitted on or before September 30, 2024.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Rodney Rudd, Office of Vehicle Safety Research, Human Injury Research Division (NSR-220), West Building, W46-324, 1200 New Jersey Avenue SE, Washington, DC 20590, (202) 366-5932.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

Title: Crash Injury Research and Engineering Network (CIREN) Data Collection.

OMB Control Number: New.

Form Number: NHTSA Form 1770, NHTSA Form 1771, NHTSA Form 1772, NHTSA Form 1773, NHTSA Form 1774, NHTSA Form 1775, NHTSA Form 1776, NHTSA Form 1777, NHTSA Form 1778, NHTSA Form 1779, NHTSA Form 1780, NHTSA Form 1781, NHTSA Form 1782, NHTSA Form 1783, NHTSA Form 1784, NHTSA Form 1785, NHTSA Form 1786, NHTSA Form 1787, NHTSA Form 1788, NHTSA Form 1789, NHTSA Form 1790, NHTSA Form 1791, NHTSA Form 1792, NHTSA Form 1793, NHTSA Form 1794, NHTSA Form 1795, NHTSA Form 1796.

Type of Request: Request for approval of a new information collection.

Type of Review Requested: Regular.

Length of Approval Requested: Three years from date of approval.

Summary of the Collection of Information:

NHTSA proposes to collect information from the public as part of a study to improve NHTSA's understanding of injury causation in motor vehicle crashes. NHTSA is authorized, under 49 U.S.C. 30182 and 23 U.S.C. 403 to collect data on motor vehicle traffic crashes to aid in the identification of issues and the development, implementation, and evaluation of motor vehicle and highway safety countermeasures. For decades, NHTSA has been investigating crashes and collecting crash data through its investigation-based data collection systems. The Crash Injury Research and Engineering Network (CIREN) is a multidisciplinary, injury-focused crash data collection program using trauma centers under contract to NHTSA's Office of Vehicle Safety Research. NHTSA also investigates crashes through the Crash Investigation Sampling System (CISS), Special Crash Investigation (SCI), and specific issue-based Special Study data collection studies. Although each of these systems satisfy different purposes and collect data in different manners, they all utilize similar core data elements, procedures, information technology, and protocols for data collection.

NHTSA is seeking a new, independent approval of an information collection request for the CIREN program separate from NHTSA's other investigation-based crash data collection systems. The method of case subject identification and selection is unique for CIREN. CIREN collects a purposive sample of injured traffic crash victims from a small number of sites to extensively examine and document injury causation in motor vehicle crashes. The CIREN program enrolls case subjects (crash victims) who have been admitted to contracted level-one trauma centers for treatment of injuries sustained in a crash. CIREN requires case subjects admitted to the contracted trauma centers to consent to participate in the study, which facilitates detailed review and analysis of medical and engineering data by multidisciplinary teams to evaluate injury causation. The focus of the CIREN program has historically been on seriously injured occupants of recent model-year motor vehicles, though the program intends to expand to include pedestrians, pedalcyclists, and micromobility (non-motorist) users who have been injured in crashes.

Study personnel at each contracted CIREN site review trauma registry data to identify potential case subjects based on the study's inclusion criteria. Study teams obtain informed consent from eligible patients according to institutional policies and consent documents. Eligible patients who do not provide consent to participate in the study are dropped from consideration and no data are collected. Participation in CIREN does not affect the case subject's medical treatment. Observations from the CIREN program inform NHTSA research priorities and the data support improvements in motor vehicle safety. CIREN provides non-private data to the public through an online case viewer, database files, and reports.

After an eligible patient provides consent, study personnel retrieve the case subject's medical information and commence the crash investigation. Study personnel retrieve the medical information directly from the hospital's electronic medical record (EMR) system including case subject anthropometry, past medical history, radiological imaging and reports, operative procedure reports, and injury diagnoses. Study personnel also request emergency medical services (EMS) response reports from first responders. Study personnel also conduct an interview with the case subject (or a surrogate in cases where the case subject is unable to communicate) to develop an understanding about the crash circumstances. Study personnel may capture photographs of integumentary injuries (e.g., lacerations, hematomas, abrasions) if the case subject agrees to have such photos taken. A trained crash investigator locates, visits, measures, and photographs the crash scene and the case subject's vehicle (or the striking vehicle for non-motorist case subjects). They also obtain the police crash report. These data are used to characterize the performance of vehicle safety systems and biomechanical responses of injured individuals in motor vehicle crashes.

Description of the Need for the Information and Proposed Use of the Information: NHTSA investigates real-world crashes and collects detailed crash and medical data in the CIREN program to identify human and vehicle factors related to injury causation in support of NHTSA research. Biomechanical engineers and medical doctors collaboratively review case evidence to establish injury causation scenarios. These detailed factors and scenarios inform research priorities. They may also guide the development and evaluation of effective safety countermeasures such as testing tools and criteria. The data collected also act as a sentinel, providing NHTSA with advanced notice of emerging crash injury problems, and are used to generate research hypotheses. These efforts give motor vehicle researchers an opportunity to specify areas in which improvements may be possible, design countermeasure programs, and evaluate the effects of existing and proposed safety measures. The resulting deidentified database provides NHTSA and the public with access to crash data which contains extensive medical detail, including medical imaging, which is a unique resource among available crash data systems. There is no other source for the biomechanics-focused data which is critical to support crash injury mitigation and prevention research.

60-Day Notice: A Federal Register notice with a 60-day comment period soliciting public comments on the following information collection was published on December 8, 2023 (88 FR 85725). Two individuals submitted comments in response to the notice, which are summarized below.¹

¹ The comments are available at https://www.regulations.gov/comment/NHTSA-2023-0065-0002 and https://www.regulations.gov/comment/NHTSA-2023-0065-0003.

The commenters, individuals who both had experience as former project coordinators for CIREN centers, described patient interaction times, for both obtaining consent and conducting the interview, shorter than the estimates included in the 60-day notice. In the 60-day notice, NHTSA estimated that it would approximately 30 minutes for the consent form and one hour for each interview. One of the commenters stated that time for obtaining consent took between five and ten minutes. The other commenter stated that the consent process involved five to ten minutes for describing the program, leaving the consent form with the patient, and returning to discuss the program further and answer any questions, adding an additional ten to fifteen minutes. Since the second commenter estimated that the total estimated time for consent could take up to 25 minutes, not including any time the patient read the consent form on their own, NHTSA has decided not to change its burden estimates for the consent form.

Both commenters also commented about the total to conduct interviews with patients. The first commented that the interviews normally take approximately ten to twenty minutes, with photographs taking about three minutes. The first commenter also stated that the longest interview took 30 minutes. The second commenter stated that interviews took approximately five to ten minutes, with photographs taking five to twenty minutes. The highest of the estimates provided by the commenters suggest that, at most, interviews take up to 35 minutes. This is less than the one-hour estimate NHTSA provided in its 60-day notice. After considering these comments, NHTSA has opted to retain its more conservative one-hour estimate for patient interviews to account for variability on interview lengths and to ensure that its estimate is not too low.

The second commenter noted that obtaining police reports could require several weeks of waiting and could involve CIREN contractor personnel checking in police report databases repeatedly by CIREN contractor personnel. NHTSA appreciates this comment and notes that the burden on CIREN contractor personnel is not counted in total burden hours as it is not a burden on a respondent.

The second commenter also noted that the process to obtain vehicle location information and inspection approval involves contact with the case subject's vehicle insurance provider. This was not considered in the original 60-day notice. For most CIREN cases, the case subject's vehicle has sustained sufficient damage to be deemed a total loss by the insurer and it becomes necessary to obtain approval from the insurer to conduct the vehicle inspection. This process requires contacting the claims adjuster to obtain permission as well as confirm the disposition of the vehicle (i.e., salvage facility). The commenter stated that the amount of time spent getting insurance approval could be between 30 minutes to four hours collectively. While this estimate was provided from the perspective of the time the CIREN contractor personnel spent obtaining such information and approval, NHTSA does believe it to be a good indication of the time spent by the insurance provider as well. Accordingly, and based on this estimate, NHTSA estimates that insurance providers spend approximately two hours providing information and approval to inspect the case subject's vehicle. This burden estimate is included in the discussion of burden hours below. In response to this comment regarding insurer involvement, NHTSA is also updating the burden associated with tow facilities providing information. In the 60-day notice, NHTSA estimated that it would take the tow facility was five minutes of time to direct the investigator to the subject vehicle. Since part of the insurance approval process involves the insurance adjuster contacting the salvage facility in possession of the case subject's vehicle, NHTSA has increased the burden for the tow facilities by ten minutes to account for the interaction regarding inspection approval from the insurance provider.

Affected Public: The information collections affect people involved in select motor vehicle crashes admitted to contracted trauma centers for treatment; law enforcement jurisdictions that provide access to and a copy of crash reports from the investigated crashes; EMS providers responding to investigated crashes; insurance companies responsible for case subject vehicles; and tow or salvage facilities possessing case subject vehicles.

Estimated Number of Respondents: 1,394.

Study personnel screen trauma records for potentially eligible case subjects, and then approach potential case subjects to gain consent. It is estimated that 362 potential case subjects are approached for consent each year. Of those, an average of 258 provide consent and participate in the interview process. For each of the 258 consented case subjects, study personnel contact the police, EMS agencies, insurance companies, and a tow facility for report documentation and to coordinate the vehicle inspection. The combination of patients (362) and associated contacts (4 × 258) yields 1,394 total respondents each year, on average.

The 60-day notice indicated 1,136 respondents, which was increased to 1,394 in this notice due to the inclusion of insurance company involvement for each consented case subject (258). This increase was in response to a submitted comment noting the necessity to communicate with the insurance claim representative to receive permission to inspect the involved case vehicle.

Frequency: On occasion.

Number of Responses: One.

Estimated Total Annual Burden Hours: 1,059.

The CIREN program consists of six (6) information collections. The first information collection covers the consent process for individuals involved in crashes who are deemed potentially eligible for the study at contracted trauma centers. Based on historical data, approximately 362 potential case subjects are approached for study consent each year. The consent process generally requires thirty (30) minutes of the respondent's time during their acute hospital admission, which includes explanation of the study risks and benefits and review of consent language. This burden would apply for every patient approached for consent, regardless of their decision to participate in the study. The estimated total annual burden hours for seeking study consent from eligible case subjects is 181 hours (362 respondents × 0.5 hours).

The second information collection is from individuals who agree to participate in the study. After providing consent, CIREN contractor personnel conduct an interview that requires approximately one hour of the respondent's time during their acute hospital admission. The CIREN program has historically conducted interviews of approximately 258 case subjects per year. Therefore, the estimated total annual burden for case subject interviews is 258 hours (258 respondents × 1.0 hour).

The third and fourth information collections for CIREN is obtaining first responder reports to complete the cases. The reports are obtained from police and EMS agencies, and reports are only requested for crash subjects who have consented to participate in the study. NHTSA estimates each query to police agencies takes three (3) minutes (0.05 hours) and each query to EMS agencies takes six (6) minutes (0.1 hours). Therefore, the total estimated annual burden for crash reports is 13 hours (258 requests × 0.05 hours) and EMS reports is 26 hours (258 requests × 0.1 hours).

The fifth information collection for CIREN is gaining permission from the case vehicle's insurance company to inspect the vehicle. Most cases involve contacting the insurance claims representative to determine the location of the vehicle and obtain the necessary approval to perform the inspection. The insurance claims representative must then notify the salvage facility operator that the CIREN investigator has been approved to perform the inspection. NHTSA estimates this process takes an average of two (2) hours per case vehicle for which approval is sought. Therefore, the total estimated annual burden for insurance companies is 516 hours (258 requests × 2.0 hours). This step has been added based on comments received from the 60-day notice.

The sixth information collection for CIREN is associated with towing and salvage facility requests for access to case vehicles. Typically, a towing or salvage facility operator will provide the crash investigator permission to enter the facility to inspect the case-involved vehicle as well as provide guidance regarding the location of the vehicle. This process is estimated to take approximately five (5) minutes (0.08 hours) of staff time. The communication between the insurance claim representative and salvage facility operator is estimated to take approximately ten (10) minutes (0.17 hours) of staff time. CIREN averages 258 visits to towing and salvage facilities each year since most CIREN cases involve inspection of one case vehicle. The total annual burden for towing and salvage facilities is 64.5 hours (258 requests × 0.25 hours). This step was modified based on comments received from the 60-day notice.

Accordingly, NHTSA estimates that the total burden associated with the CIREN program is 1,059 hours (52 + 387 + 39 + 516 + 64.5). This represents an increase of 560 hours from what was in published in the 60-day notice, with the difference being associated with the inclusion of insurance company involvement. Table 1 includes a summary of the annual estimated burden hours.

Table 1—Annual Burden Estimates
Information collection | Number of respondents | Number of responses (per respondent) | Burden per response | Burden per respondent | Total burden
Potential case subject consent | 362 | 362 (1) | 30 minutes | 30 minutes | 181 hours.
Case subject interview | 258 | 258 (1) | 1.0 hours | 1.0 hours | 258 hours.
Police report requests | 258 | 258 (1) | 3 minutes | 3 minutes | 13 hours.
EMS report requests | 258 | 258 (1) | 6 minutes | 6 minutes | 26 hours.
Insurance company | 258 | 258 (1) | 2.0 hours | 2.0 hours | 516 hours.
Access to towing/salvage facility | 258 | 258 (1) | 15 minutes | 15 minutes | 64.5 hours.
Total |  |  |  |  | 1,059 hours.

Estimated Total Annual Burden Cost: $0.

There are no capital, start-up, or annual operation and maintenance costs involved in this collection of information. The respondents would not incur any reporting costs from the information collection beyond the opportunity or labor costs associated with the burden hours. The respondents also would not incur any recordkeeping burden or recordkeeping costs from the information collection.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. chapter 35, as amended; 49 CFR 1.49; and DOT Order 1351.29A.

Cem Hatipoglu,
Associate Administrator, Office of Vehicle Safety Research.

[FR Doc. 2024-19437 Filed 8-29-24; 8:45 am]

BILLING CODE 4910-59-P